DEPARTMENT OF THE INTERIOR

Fish and Wildlife Service

[FWS-HQ-IA-2013-N168; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before August 26, 2013. We must receive requests for marine mammal permit public hearings, in writing, at the address shown in the ADDRESSES section by August 26, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: St. Louis Zoo, St. Louis, MO; PRT-06587B

The applicant requests a permit to export hair samples from seven live specimens of Somali wild ass (Equus africanus somalicus) and Grevy's zebra (Equus grevyi) for the purpose of scientific research.

Applicant: University of Tennessee, College of Veterinary Medicine, Knoxville, TN; PRT-06190B

The applicant requests a permit to import biological samples from captive-bred cheetahs (Acinonyx jubatus) that live or lived in zoos in Canada from the Toronto Zoo, Scarborough, Canada, for the purpose of scientific research on the occurrence of feline coronavirus in cheetahs in Canadian zoos. This notification covers activities to be conducted by the applicant over a 5-year period.

Applicant: San Diego Zoological Society, San Diego, CA; PRT-00002B

The applicant requests a permit to export four captive-born Bonobos (Pan paniscus) to Kumamoto Sanctuary, Kumamoto, Japan for scientific research purposes.

Applicant: Zoological Society of San Diego, San Diego CA; PRT-09942B

The applicant requests a permit for the import of 3.3 captive-bred Parma wallabies (Macropus parma) from the Healesville Sanctuary, Victoria Australia for the purpose of enhancement of the survival of the species.

Applicant: Zoological Society of San Diego, San Diego CA; PRT-09914B

The applicant requests a permit for the import of 2.4 captive bred yellow footed rock wallabies (Petrogale xanthopus xanthopus) from the Zoos South Australia, Adelaide, South Australia for the purpose of enhancement of the survival of the species.

Applicant: Brian Welker, Fulshear, TX; PRT-09943B

The applicant requests a captive-bred wildlife registration under 50 CFR 17.21(g) for scimitar-horned oryx (Oryx dammah) to enhance the species propagation or survival. This notification covers activities to be conducted by the applicant over a 5-year period.

Applicant: JCH Ranch LP, Sonora, TX; PRT-09945B

The applicant requests a captive-bred wildlife registration under 50 CFR 17.21(g) for scimitar-horned oryx (Oryx dammah) and addax (Addax nasomaculatus) to enhance the species propagation or survival. This notification covers activities to be conducted by the applicant over a 5-year period.

Applicant: JCH Ranch LP, Sonora, TX; PRT-09938B

The applicant requests a permit authorizing interstate and foreign commerce, export, and cull of excess scimitar-horned oryx (Oryx dammah) and addax (Addax nasomaculatus) from the captive herd maintained at their facility, for the purpose of enhancement of the survival of the species. This notification covers activities over a 5-year period.

Applicant: Hill Country Trophy Hunting, Mountain Home, TX; PRT-08669B

The applicant requests a captive-bred wildlife registration under 50 CFR 17.21(g) for scimitar-horned oryx (Oryx dammah) to enhance the species propagation or survival. This notification covers activities to be conducted by the applicant over a 5-year period.

Applicant: Alvin Novosad, Chappell Hill, TX; PRT-748080

The applicant requests renewal of their captive-bred wildlife registration under 50 CFR 17.21(g) for Cabot's tragopan (Tragopan caboti) to enhance their propagation or survival. This notification covers activities over a 5-year period.

Applicant: Mary Ann Harris, Vancleave, MS; PRT-148278

The applicant requests renewal of their captive-bred wildlife registration under 50 CFR 17.21(g) for golden parakeet (Guarouba guarouba) to enhance their propagation or survival. This notification covers activities over a 5-year period.

Applicant: Zoological Consortium of Maryland, Inc., Thurmont, MD; PRT-10226B

The applicant requests a captive-bred wildlife registration under 50 CFR 17.21(g) for the following species, to enhance their propagation or survival. This notification covers activities to be conducted by the applicant over a 5-year period.

Species

Galapagos tortoise (Chelonoidis nigra)

Radiated tortoise (Astrochelys radiata)

Yellow-spotted river turtle (Podocnemis unifilis)

Spotted pond turtle (Geoclemys hamiltonii)

Nile crocodile (Crocodylus niloticus)

Saltwater crocodile (Crocodylus porosus)

Caiman (Caiman crocodilus)

Indian python (Python molurus molurus) cannot enter interstate commerce

Aruba Island rattlesnake (Crotalus durissus unicolor)

Jackass penguin (Spheniscus demersus)

Andean condor (Vultur gryphus)

Blyth's tragopan (Tragopan blythii)

Cabot's tragopan (Tragopan caboti)

Moluccan cockatoo (Cacatua moluccensis)

Ring-Tailed lemur (Lemur catta)

Black and white ruffed lemur (Varecia variegata)

Red ruffed lemur (Varecia rubra)

Black lemur (Eulemur macaco)

Brown lemur (Eulemur fulvus)

Cotton-top tamarin (Saguinus oedipus)

Diana monkey (Cercopithecus diana)

Japanese macaque (Macaca fuscata)

Lion-tailed macaque (Macaca silenus)

Mandrill (Mandrillus sphinx)

Lar gibbon (Hylobates lar)

Siamang (Symphalangus syndactylus)

Snow leopard (Uncia uncia)

Leopard (Panthera pardus)

Grevy's zebra (Equus grevyi)

South American tapir (Tapirus terrestris)

Scimitar-horned oryx (Oryx dammah)

Addax (Addax nasomaculatus)

Dama gazelle (Nanger dama)

Komodo monitor (Varanus komodoensis)

Applicant: Los Angeles Zoo, Los Angeles, CA; PRT-10602B

The applicant requests a permit to export one captive-born male brush-tailed bettong (Bettongia penicillata) to the Toronto Zoo, Ontario, Canada, for the purpose of enhancement of the survival of the species.

Applicant: Zoological Society of Cincinnati, Cincinnati, OH; PRT-681252

The applicant requests amendment of their captive-bred wildlife registration under 50 CFR 17.21(g) to include Bali starling (Leucopsar rothschildi) to enhance the species' propagation or survival. This notification covers activities to be conducted by the applicant over a 5-year period.

Applicant: Ox Ranch, Uvalde, TX; PRT-10867B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche) to enhance the species propagation or survival. This notification covers activities to be conducted by the applicant over a 5-year period.

Applicant: Ox Ranch, Uvalde, TX; PRT-10866B

The applicant requests a permit authorizing interstate and foreign commerce, export, and cull of excess scimitar-horned oryx (Oryx dammah), addax (Addax nasomaculatus), and red lechwe (Kobus leche) from the captive herd maintained at their facility, for the purpose of enhancement of the survival of the species. This notification covers activities over a 5-year period.

Applicant: Clyde Reams, Pass Christian, MS; PRT-10983B

The applicant requests a captive-bred wildlife registration under 50 CFR 17.21(g) for golden parakeet (Guarouba guarouba) to enhance their propagation or survival. This notification covers activities over a 5-year period.

Applicant: Lauren Ogburn, St. Johns, FL; PRT-10997B

The applicant requests a captive-bred wildlife registration under 50 CFR 17.21(g) for red siskin (Carduelis cucullata) to enhance their propagation or survival. This notification covers activities over a 5-year period.

Applicant: Daniel Conner, Kerrville, TX; PRT-10990B

The applicant requests a captive-bred wildlife registration under 50 CFR 17.21(g) for African dwarf crocodile (Osteolaemus tetraspis), Siamese crocodile (Crocodylus siamensis), Nile crocodile (Crocodylus niloticus), Cuban crocodile (Crocodylus rhombifer), saltwater crocodile (Crocodylus porosus), yacare caiman (Caiman yacare), caiman (Caiman crocodilus), brown caiman (Caiman crocodilus fuscus), broad-snouted caiman (Caiman latirostris), and Chinese alligator (Alligator sinensis), to enhance their propagation or survival. This notification covers activities over a 5-year period.

Applicant: Richard Sines, Johns Island, SC; PRT-154639

The applicant requests renewal of their captive-bred wildlife registration under 50 CFR 17.21(g) for radiated tortoise (Astrochelys radiata) to enhance their propagation or survival. This notification covers activities over a 5-year period.

Applicant: Tampa's Lowry Park Zoo, Tampa, FL; PRT-702166

The applicant requests renewal of their captive-bred wildlife registration under 50 CFR 17.21(g) for the following families and species, to enhance their propagation or survival. This notification covers activities to be conducted by the applicant over a 5-year period.

Families

Bovidae

Cebidae

Cercopithecidae

Cheirogaleidae

Equidae

Felidae (does not include jaguar, margay or ocelot)

Hominidae

Hylobatidae

Lemuridae

Rhinocerotidae

Tapiridae

Gruidae

Sturnidae (does not include Aplonis pelzelni)

Species

Komodo monitor (Varanus komodoensis)

Spotted pond turtle (Geoclemys hamiltonii)

Multiple Applicants

The following applicants each request a permit to import the sport-hunted trophy of one male bontebok (Damaliscus pygargus pygargus) culled from a captive herd maintained under the management program of the Republic of South Africa, for the purpose of enhancement of the survival of the species.

Applicant: Jerome Hennessey, Dalton, MN; PRT-08528B

Applicant: Gregory Elliott, Oakdale, LA; PRT-02585B

Applicant: Daniel Curtin, Dalton, GA; PRT-09906B

B. Endangered Marine Mammals and Marine Mammals

Applicant: U.S. Geological Survey—Biological Resources Division, Santa Cruz Field Station, Santa Cruz, CA; PRT-672624

The applicant requests renewal and amendment of the permit to take southern sea otter (Enhydra lutris nereis) from the wild for the purpose of scientific research on the ecology of the species. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-17866 Filed 7-24-13; 8:45 am]

BILLING CODE 4310-55-P